DEPARTMENT OF THE INTERIOR

Bureau of Land Management

[ES-030-01-1610-DO]

Notice of Intent To Prepare Douglas Point, Maryland Land Acquisition Planning Analysis/Environmental Assessment

AGENCY: Bureau of Land Management, Interior.

ACTION: Notice of intent.

SUMMARY: The Bureau of Land Management (BLM), Eastern States, will prepare a Planning Analysis and Environmental Assessment (PA/EA) to consider acquisition of approximately 600 acres of land known as the Douglas Point tract, located in Charles County, Maryland. These documents will fulfill the requirements of the Federal Land Policy and Management Act of 1976 and the National Environmental Policy Act of 1969.

The public has 30 days from the date of publication of this notice to send its ideas regarding the proposal described below under SUPPLEMENTARY INFORMATION. These comments should be written to help focus the plan on substantive issues and develop appropriate management alternatives. These comments may include specific resource data or information or locations where these data or information may be found.

DATES: The public scoping period commences with the publication of this notice. Comments must be postmarked no later than October 29, 2001 to ensure the issues they raise are considered in the plan.

ADDRESSES: Comments may be mailed to the following addresses: Jim Dryden, Field Manager, Milwaukee Field Office, P.O. Box 631, Milwaukee, Wisconsin 53201-0631 or Ed Ruda, Project Leader, Eastern States Office, 7450 Boston Boulevard, Springfield, Virginia 22153.

FOR FURTHER INFORMATION CONTACT: Ed Ruda, (703) 440-1663, or by electronic mail at ed_ruda@es.blm.gov, or Howard Levine, Planning and Environmental Coordinator, (414) 297-4463, or by electronic mail at howard—levine@es.blm.gov.

SUPPLEMENTARY INFORMATION: BLM proposes to acquire a portion of the Douglas Point tract for recreation and other purposes. The PA/EA addresses only the acquisition of the property. Another on-going planning effort, known as the Lower Potomac River Coordinated Management Plan (CMP), will address long-term management of the property and develop criteria to guide future BLM acquisitions (66 FR 21412-3). Congress appropriated a total of $3 million derived from Land and Water Conservation Funds for the acquisition of lands by the BLM for the Douglas Point project. (Emergency Defense Appropriations Act of 2000 (Public Law No. 106-246) and the Department of the Interior and Related Agencies Appropriations Act, 2001 (Public Law No. 106-291).)

Prior to expending Federal money for acquisition BLM must fulfill the requirements of Sections 202 and 205(b) of the Federal Land Policy and Management Act of 1976, as amended (43 U.S.C. 1701, et seq.). Under these requirements any land acquisitions by BLM must conform with applicable land use plans. Currently, BLM has no land-use plans in the State of Maryland. The Douglas Point PA/EA will fulfill that requirement. This analysis is for acquisition purposes only and does not constitute a comprehensive land-use plan.

The Lower Potomac River CMP will serve as the comprehensive land-use plan and will be prepared with full public participation. It is envisioned the land would eventually be used for low impact recreation, sightseeing and nature tourism. Other possible uses and permanently-excluded uses will be considered in the CMP.

Complete records of all phases of the planning process will be available at the Milwaukee Field Office and are available upon request.

Dated: August 13, 2001.
James W. Dryden,
Milwaukee Field Manager.

[FR Doc. 01-24302 Filed 9-26-01; 8:45 am]

BILLING CODE 4310-GJ-P